DEPARTMENT OF TRANSPORTATION

Surface Transportation Board

[Docket No. FD 35804 (Sub-No. 1)]

CSX Transportation, Inc., The Baltimore & Ohio Chicago Terminal Railroad Company, and Norfolk Southern Railway Company—Joint Relocation Project Exemption—Gary-Chicago International Airport Authority

AGENCY: Surface Transportation Board, DOT.

ACTION: Notice of Exemption.

SUMMARY: The Board is granting an exemption under 49 U.S.C. 10502 from the prior approval requirements of 49 U.S.C. 11323-25 for CSX Transportation, Inc., to obtain trackage rights from Norfolk Southern Railway Company (NSR) over a 1.7-mile portion of NSR's Gary Branch between approximately milepost TC 244.90 and milepost TC 246.60.¹

¹ This transaction is related to the joint relocation project described in CSX Transportation, The Baltimore & Ohio Chicago Terminal Co., & Norfolk Southern Railway—Joint Relocation Project Exemption—Gary-Chicago International Airport Authority, FD 35804 (STB served May 21, 2014).

DATES: This exemption is effective on August 14, 2014. Petitions to reopen must be filed by September 3, 2014.

ADDRESSES: An original and 10 copies of all pleadings, referring to Docket No. FD 35804 (Sub-No. 1), must be filed with the Surface Transportation Board, 395 E Street SW., Washington, DC 20423-0001. In addition, a copy of each pleading must be served on Louis E. Gitomer, Law Offices of Louis E. Gitomer, 600 Baltimore Avenue, Suite 301, Towson, MD 21204.

FOR FURTHER INFORMATION CONTACT: Valerie Quinn, (202) 245-0382. Assistance for the hearing impaired is available through the Federal Information Relay Service (FIRS) at (800) 877-8339.

SUPPLEMENTARY INFORMATION: Additional information is contained in the Board's decision served on August 14, 2014, which is available on our Web site at www.stb.dot.gov.

Decided: August 14, 2014.
By the Board, Chairman Elliott, Vice Chairman Miller, and Commissioner Begeman.
Jeffrey Herzig,
Clearance Clerk.

[FR Doc. 2014-19635 Filed 8-18-14; 8:45 am]

BILLING CODE 4915-01-P